DEPARTMENT OF THE INTERIOR

Fish and Wildlife Service

Availability of the Recovery Plan for the Alaska-Breeding Population of the Steller's Eider (Polysticta stelleri)

AGENCY: Fish and Wildlife Service, Interior.

ACTION: Notice of document availability.

SUMMARY: The U.S. Fish and Wildlife Service (Service) announces the availability of the final recovery plan for the threatened Alaska-breeding population of the Steller's eider (Polysticta stelleri). The threatened Alaska-breeding population of Steller's eiders occurs in disjunct coastal and marine areas in northern and western Alaska. Although formerly locally common in portions of western and northern Alaska, they have nearly disappeared from western Alaska, and only hundreds or low thousands exist in northern Alaska. Causes of the decline are poorly understood. Recovery tasks include reduction of exposure to lead shot and other forms of human-caused mortality, acquisition of information on population parameters and ecology, re-establishment of the western Alaska subpopulation, and development of partnerships for recovery efforts.

ADDRESSES: Copies of this recovery plan are available by request from the Fairbanks Fish and Wildlife Office, 101 12th Ave., Box 19, Rm 110, Fairbanks, AK 99701 (telephone 907/456-0203; facsimile 907/456-0208) or from Fish and Wildlife Service, 5430 Grosvenor Lane, Suite 110, Bethesda, Maryland 20814, (301/429-6403 or 1-800-582-3421). The fee for the plan varies depending on the number of pages of the plan. This recovery plan will be made available on the World Wide Web at http://endangered.fws.gov/RECOVERY/RECPLANS/Index.htm.

FOR FURTHER INFORMATION CONTACT: Ted Swem, Endangered Species Branch Chief, at the above Fairbanks address.

SUPPLEMENTARY INFORMATION:

Background

Restoring an endangered or threatened animal or plant to the point where it is again a secure, self-sustaining member of its ecosystem is a primary goal of the Service's endangered species program. To guide recovery, the Service is working to prepare recovery plans for most listed species native to the United States. Recovery plans describe actions considered necessary for conservation of species, establish criteria for downlisting or delisting, and estimate time and cost for implementing the recovery measures needed.

The Endangered Species Act of 1973 (Act), as amended (16 U.S.C. 1531 et seq.), requires the development of recovery plans for listed species unless such a plan would not promote the conservation of a particular species. Section 4(f) of the Act, as amended in 1988, requires that public notice and an opportunity for public review and comment be provided during recovery plan development. Information presented during the public comment period has been considered in the preparation of this final recovery plan. We will forward substantive comments regarding recovery plan implementation to appropriate Federal or other entities so that they can take these comments into account during the course of implementing recovery actions.

Three breeding populations of Steller's eiders are recognized: two in Arctic Russia and one in Alaska. Neither Russian population is listed as threatened or endangered. The Alaska-breeding population is the only population listed as threatened or endangered, and this recovery plan pertains exclusively to the conservation of this population.

The Alaska-breeding population was listed as threatened under the Act on June 11, 1997 (62 FR 31748). The decision to list the Alaska-breeding population of Steller's eiders as threatened was based on a substantial decrease in the species' nesting range in Alaska and the resulting increased vulnerability of the remaining breeding population to extirpation. When the Alaska-breeding population of the Steller's eider was listed as threatened, the factor or factors causing the decline were unknown. Factors identified as potential causes of decline included predation, hunting, ingestion of spent lead shot in wetlands, and changes in the marine environment that could affect Steller's eider food or other resources. Since listing, other potential threats have been identified, but the causes of decline and obstacles to recovery remain poorly understood. Accordingly, a significant number of early recovery tasks will involve research to identify threats and evaluate their impacts.

The objective of this plan is to establish a framework for the recovery of the Steller's eider so that protection by the Act is no longer necessary. Interim objectives are: (1) To prevent further declines of the Alaska-breeding population (including both the northern and western Alaska subpopulations); (2) to protect Alaska-breeding Steller's eiders and their habitats; (3) to identify and alleviate causes of decline and/or obstacles to recovery; and (4) to determine size, trends, and distribution of the northern and western Alaska-breeding subpopulations. The recovery plan provides criteria and threshold population levels for delisting and reclassification (i.e., from threatened to endangered).

Authority: The authority for this action is Section 4(f) of the Endangered Species Act, 16 U.S.C. 1533(f).

Dated: March 31, 2003.
David B. Allen,
Regional Director.

[FR Doc. 03-9893 Filed 4-22-03; 8:45 am]

BILLING CODE 4310-55-P